ENVIRONMENTAL PROTECTION AGENCY

[EPA-HQ-OAR-2013-0691; FRL-10003-50-OMS]

Information Collection Request Submitted to OMB for Review and Approval; Comment Request; Fine Particulate Matter (PM2.5) National Ambient Air Quality Standards (NAAQS) State Implementation Plan (SIP) Requirements Rule (Renewal)

AGENCY: Environmental Protection Agency (EPA).

ACTION: Notice.

SUMMARY: The Environmental Protection Agency (EPA) has submitted an information collection request (ICR), Fine Particulate Matter (PM2.5) National Ambient Air Quality Standards (NAAQS) State Implementation Plan (SIP) Requirements Rule (EPA ICR Number 2258.05, OMB Control Number 2060-0611), to the Office of Management and Budget (OMB) for review and approval in accordance with the Paperwork Reduction Act. This is a proposed renewal of the existing ICR for the PM2.5 NAAQS State Implementation Plan (SIP) Requirements Rule, which is currently approved through January 31, 2020. Public comments were previously requested via the Federal Register on October 1, 2019, during a 60-day comment period. This notice allows for an additional 30 days for public comments. A fuller description of the ICR is given below, including its estimated burden and cost to the public. An Agency may not conduct, or sponsor and a person is not required to respond to a collection of information unless it displays a currently valid OMB control number.

DATES: Additional comments may be submitted on or before March 2, 2020.

ADDRESSES: Submit your comments, referencing Docket ID No. EPA-HQ-OAR-2013-0691, online using http://www.regulations.gov (our preferred method), or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information, or other information whose disclosure is restricted by statute.

FOR FURTHER INFORMATION CONTACT: Ms. Leigh Herrington, Office of Air Quality Planning and Standards, U.S. Environmental Protection Agency, by phone at (919) 541-0882 or by email at herrington.leigh@epa.gov.

SUPPLEMENTARY INFORMATION: Supporting documents, which explain in detail the information that the EPA will be collecting, are available in the public docket for this ICR. The docket can be viewed online at http://www.regulations.gov, or in person at the EPA Docket Center, WJC West, Room 3334, 1301 Constitution Ave. NW, Washington, DC. The telephone number for the Docket Center is (202) 566-1744. For additional information about EPA's public docket, visit http://www.epa.gov/dockets.

Abstract: The PM2.5 NAAQS SIP Requirements Rule became effective on October 24, 2016 (81 FR 58010). This rule provides the framework of Clean Air Act (CAA) requirements for air agencies to develop state implementation plans to help attain and maintain the PM2.5 NAAQS. States have applied this framework to develop attainment plans and redesignation requests and maintenance plans for areas designated nonattainment for the 1997 PM2.5 NAAQS, the 2006 PM2.5 NAAQS, and the 2012 PM2.5 NAAQS.

The ICR finalized with the PM2.5 NAAQS SIP Requirements Rule estimated, for the 3 years following the ICR approval date, the burden associated with plan development and plan revisions related to ongoing implementation efforts in 31 areas designated nonattainment for the 1997, 2006 and 2012 PM2.5 NAAQS. The estimates included the burden to develop and submit, and the burden to the EPA to review and to approve or disapprove, attainment plans to meet the requirements prescribed in CAA sections 110 and part D, subparts 1 and 4 of title I. A PM2.5 NAAQS attainment plan contains rules and other measures designed to improve air quality and achieve the NAAQS by the deadlines established under the CAA. It also must address several additional CAA requirements related to demonstrating timely attainment and must contain contingency measures in the event the nonattainment area does not achieve reasonable further progress throughout the attainment period or in the event the area does not attain the NAAQS by its attainment date. States that have attained by the applicable attainment date may be eligible to submit a redesignation request and maintenance plan to receive a redesignation from “nonattainment” to “attainment.” After a state submits an attainment or maintenance plan, the CAA requires the EPA to approve or disapprove the plan. Tribes may develop or submit attainment plans but are not required to do so.

Form Numbers: None.

Respondents/affected entities: State and local governments.

Respondent's obligation to respond: Mandatory (40 CFR parts 50, 51, and 93).

Estimated number of respondents: 8.

Frequency of response: Once per triggering event.

Total estimated burden: 25,500 hours (per year). Burden is defined at 5 CFR 1320.03(b).

Total estimated costs: $1,600,000 (per year), which includes no annualized capital or operation & maintenance costs.

Changes in Estimates: There is a decrease of 65,100 annual hours in the total estimated respondent burden compared with the ICR currently approved by OMB. This decrease is primarily a result of a reduction in the number of designated nonattainment areas.

Courtney Kerwin,
Director, Regulatory Support Division.

[FR Doc. 2020-01679 Filed 1-29-20; 8:45 am]

BILLING CODE 6560-50-P